DEPARTMENT OF ENERGY

Federal Energy Regulatory Commission

[Docket No. EL02-122-000]

Sithe Power Marketing, L.P., and Exelon Generation Company, LLC, Complainants, v. ISO New England, Inc., Respondent; Notice of Complaint

August 21, 2002.

Take notice that on August 19, 2002, Sithe Power Marketing, L.P., and Exelon Generation Company, LLC, tendered for filing with the Federal Energy Regulatory Commission (Commission) a complaint under Sections 206 and 306 of the Federal Power Act, 18 U.S.C. § 824e and 825e, and Rule 206 of the Commission's Rules and Regulations, 18 CFR 385.206, against ISO New England, Inc. (ISO-NE) requesting the Commission to direct the ISO-NE to preserve Sithe's rollover rights in accordance with the ISO-NE tariff and the Commission's policies.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before September 9, 2002. This filing is available for review at the Commission in the Public Reference Room or may be viewed on the Commission's Web site at http://www.ferc.gov using the “FERRIS” link. Enter the docket number excluding the last three digits in the docket number field to access the document. For Assistance, call (202)502-8222 or for TTY, (202) 208-1659. The answer to the complaint, comments, protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-21847 Filed 8-27-02; 8:45 am]

BILLING CODE 6717-01-P